DEPARTMENT OF STATE

[Public Notice: 10453]

30-Day Notice of Proposed Information Collection: Statement Regarding a Lost or Stolen U.S. Passport Book and/or Card

ACTION: Notice of request for public comment and submission to the Office of Management and Budget (OMB) of proposed collection of information.

SUMMARY: The Department of State has submitted the information collection described below to OMB for approval. In accordance with the Paperwork Reduction Act of 1995 we are requesting comments on this collection from all interested individuals and organizations. The purpose of this Notice is to allow 30 days for public comment.

DATES: Submit comments directly to the Office of Management and Budget (OMB) up to August 2, 2018.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

SUPPLEMENTARY INFORMATION:

• Title of Information Collection: Statement Regarding a Lost or Stolen U.S. Passport Book and/or Card

• OMB Control Number: 1405-0014.

• Type of Request: Revision of a Currently Approved Collection.

• Originating Office: Bureau of Consular Affairs, Passport Services, Office of Legal Affairs (CA/PPT/S/L/LA).

• Form Number: DS-64.

• Respondents: Individuals or Households.

• Estimated Number of Respondents: 643,400.

• Estimated Number of Responses: 643,400.

• Average Time per Response: 5 minutes.

• Total Estimated Burden Time: 53,617 hours.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Secretary of State is authorized to issue U.S. passports under 8 U.S.C. 1104, 22 U.S.C. 211a et seq, and Executive Order 11295 (August 5, 1966). Department regulations provide that individuals whose valid or potentially valid U.S. passports were lost or stolen must make a report of the lost or stolen passport to the Department of State before they receive a new passport so that the lost or stolen passport can be invalidated (22 CFR parts 50 and 51). The Enhanced Border Security and Visa Entry Reform Act of 2002 (8 U.S.C. 1737) requires the Department of State to collect accurate information on lost or stolen U.S. passports and to enter that information into a data system. Form DS-64 collects information identifying the person who held the lost or stolen passport and describing the circumstances under which the passport was lost or stolen. As required by the cited authorities, we use the information collected to accurately identify the passport that must be invalidated and to make a record of the circumstances surrounding the lost or stolen passport. False statements made knowingly or willfully on passport forms, in affidavits, or other supporting documents, are punishable by fine and/or imprisonment under U.S. law. (18 U.S.C. 1001, 1542-1544).

Methodology

Passport applicants can submit their form electronically on www.travel.state.gov or call the National Passport Information Center at 1-877-487-2778. Applicants can also download the form from the internet or obtain one at any Passport Agency or Acceptance Facility.

Barry J. Conway,
Managing Director for Passport Services, Bureau of Consular Affairs, Department of State.

[FR Doc. 2018-14219 Filed 7-2-18; 8:45 am]

BILLING CODE 4710-06-P